DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 27, 2008.

Interested persons are invited to submit written comments regarding the subject matter of the investigations to the Director, Division of Trade Adjustment Assistance, at the address shown below, not later than May 27, 2008.

The petitions filed in this case are available for inspection at the Office of the Director, Division of Trade Adjustment Assistance, Employment and Training Administration, U.S. Department of Labor, Room C-5311, 200 Constitution Avenue, NW., Washington, DC 20210.

Signed at Washington, DC, this 7th day of May 2008.
Erin FitzGerald,
Acting Director, Division of Trade Adjustment Assistance.

Appendix—TAA Petitions Instituted Between 4/28/08 and 5/2/08
TA-W | Subject firm (petitioners) | Location | Date of institution | Date of petition
63253 | IntraPac (Harrisonburg), Inc. (Comp) | Harrisonburg, VA | 04/28/08 | 04/25/08
63254 | Teva Neuroscience (Wkrs) | Horsham, PA | 04/28/08 | 04/28/08
63255 | Feldspar Corp. (The) (Comp) | Spruce Pine, NC | 04/28/08 | 04/25/08
63256 | Shuqualak Lumber Company, Inc. (Comp) | Shuqualak, MS | 04/28/08 | 04/25/08
63257 | Webb Wheel Products, Inc. (State) | Silam Springs, AR | 04/28/08 | 04/25/08
63258 | Pass & Seymour/Legrand (Comp) | Whitsett, NC | 04/28/08 | 04/25/08
63259 | Kenneth Gordon (State) | Harahan, LA | 04/28/08 | 04/25/08
63260 | Mark Hopkins Sculpture/Baer Bronze of Georgia (Comp) | Rome, GA | 04/29/08 | 04/25/08
63261 | Simpson Timber Company—Shelton (Union) | Shelton, WA | 04/29/08 | 04/17/08
63262 | Simpson Timber Company—Tacoma (Union) | Tacoma, WA | 04/29/08 | 04/17/08
63263 | Woodgrain Millwork, Inc. (Comp) | Nampa, ID | 04/29/08 | 04/23/08
63264 | Kenworth Truck Company (Paccar Inc.) (Wkrs) | Chillicothe, OH | 04/29/08 | 04/13/08
63265 | Intel Corporation, California Technology and Manufacturing (CTM) Group (Comp) | Santa Clara, CA | 04/29/08 | 04/24/08
63266 | Lester Enterprises, Inc. dba LHP Corporation (Comp) | Hartwell, GA | 04/29/08 | 04/28/08
63267 | Shane Hunter, Inc. (Wkrs) | San Francisco, CA | 04/29/08 | 04/18/08
63268 | Key Plastics, LLC (Wkrs) | Felton, PA | 04/29/08 | 04/28/08
63269 | Daimler Trucks North America (Freight Liner LLC) (Wkrs) | Cleveland, NC | 04/29/08 | 04/22/08
63270 | Beck Manufacturing, a Div. of Anvil International, Inc. (Comp) | Santa Fe Springs, CA | 04/29/08 | 04/15/08
63271 | Horton Automatics (Comp) | Corpus Christi, TX | 04/29/08 | 04/10/08
63272 | Pfaltzgraff (Wkrs) | York, PA | 04/29/08 | 04/24/08
63273 | Sherman Textile Company (Comp) | Dallas, NC | 04/29/08 | 04/28/08
63274 | Schindler Elevator Corp (Comp) | Sidney, OH | 04/29/08 | 04/28/08
63275 | Plastic Trim International, Inc. (Comp) | Dayton, OH | 04/29/08 | 04/28/08
63276 | Quip Industries/Tim Bolk, Owner (State) | Carlyle, IL | 04/29/08 | 04/28/08
63277 | Timbuk 2 (Wkrs) | San Francisco, CA | 04/29/08 | 04/28/08
63278 | Wheeling Pittsburgh Steel Corporation (USW) | Allenport, PA | 04/30/08 | 04/21/08
63279 | Geiger (Wkrs) | Lewiston, ME | 04/30/08 | 04/23/08
63280 | Sears Holdings HR Support Center (Comp) | Tucker, GA | 04/30/08 | 04/21/08
63281 | J L Bray and Son (Union) | Salida, CA | 04/30/08 | 04/29/08
63282 | Barco, Inc. (State) | Beaverton, OR | 04/30/08 | 04/29/08
63283 | Kimball Office (Comp) | Jasper, IN | 04/30/08 | 04/29/08
63284 | Kimball International General Office (Comp) | Jasper, IN | 04/30/08 | 04/29/08
63285 | Office Furniture Group Shared Services (Comp) | Jasper, IN | 04/30/08 | 04/29/08
63286 | Brunswick Bowling (AFL-CIO) | Muskegon, MI | 04/30/08 | 04/16/08
63287 | Paulstra CRC (Comp) | Novi, MI | 04/30/08 | 04/25/08
63288 | Sigma Industries, Inc. (Comp) | Springport, MI | 05/01/08 | 04/30/08
63289 | Lakewood Engineering and Manufacturing Co. (Comp) | Chicago, IL | 05/01/08 | 04/29/08
63290 | L B Furniture Industries, LLC (IUECWA) | Hudson, NY | 05/01/08 | 04/29/08
63291 | Tanks Manufacturing (Wkrs) | Lakeview, OR | 05/01/08 | 04/20/08
63292 | Syncreon-US/Jefferson North Assembly Operation (Comp) | Detroit, MI | 05/01/08 | 04/27/08
63293 | Wausau Paper Specialty Products, LLC (Comp) | Columbus, WI | 05/01/08 | 04/28/08
63294 | Hughes Lumber Company (Wkrs) | Central Point, OR | 05/01/08 | 05/01/08
63295 | Visteon Concordia (UAW) | Concordia, MO | 05/02/08 | 05/01/08
63296 | Ornamental Products, LLC (Wkrs) | High Point, NC | 05/02/08 | 05/01/08
63297 | Snider Transportation Service (State) | Tyler, TX | 05/02/08 | 04/30/08
63298 | HD Supply, Inc. (Wkrs) | Monroe, NC | 05/02/08 | 04/29/08
63299 | Siegel Robert Automotive (State) | Farmington, MO | 05/02/08 | 04/29/08
63300 | Fisher and Company/Fisher Dynamics (Comp) | St. Clair Shores, MI | 05/02/08 | 04/29/08

[FR Doc. E8-10881 Filed 5-14-08; 8:45 am]

BILLING CODE 4510-FN-P